DEPARTMENT OF ENERGY

Federal Energy Regulatory Commission

Combined Notice of Filings

Take notice that the Commission has received the following Natural Gas Pipeline Rate and Refund Report filings:

Docket Numbers: RP19-1340-000.

Applicants: Viking Gas Transmission Company.

Description: Report Filing: Test Period Updates.

Filed Date: 1/16/20.

Accession Number: 20200116-5047.

Comments Due: 5 p.m. ET 1/28/20.

Docket Numbers: RP20-439-000.

Applicants: Garden Banks Gas Pipeline, LLC.

Description: § 4(d) Rate Filing: GB- Modification to Non-Conforming Agreement listing to be effective 2/15/2020.

Filed Date: 1/16/20.

Accession Number: 20200116-5015.

Comments Due: 5 p.m. ET 1/28/20.

Docket Numbers: RP20-303-001.

Applicants: ANR Storage Company.

Description: Compliance filing Market-Based Rates Implementation Compliance Filing to be effective 1/1/2020.

Filed Date: 1/17/20.

Accession Number: 20200117-5201.

Comments Due: 5 p.m. ET 1/29/20.

Docket Numbers: RP20-440-000.

Applicants: Transcontinental Gas Pipe Line Company, LLC.

Description: § 4(d) Rate Filing: Rate Schedule S-2 Tracker Filing eff 2-1-2020 to be effective 2/1/2020.

Filed Date: 1/17/20.

Accession Number: 20200117-5011.

Comments Due: 5 p.m. ET 1/29/20.

Docket Numbers: RP20-441-000.

Applicants: Algonquin Gas Transmission, LLC.

Description: § 4(d) Rate Filing: Negotiated Rates—Boston Gas 510798 Releases eff 1-18-2020 to be effective 1/18/2020.

Filed Date: 1/17/20.

Accession Number: 20200117-5082.

Comments Due: 5 p.m. ET 1/29/20.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified date(s). Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 21, 2020.
Nathaniel J. Davis, Sr.,
Deputy Secretary.

[FR Doc. 2020-01365 Filed 1-27-20; 8:45 am]

BILLING CODE 6717-01-P